DEPARTMENT OF HEALTH AND HUMAN SERVICES

National Institutes of Health

National Toxicology Program (NTP); Office of Liaison, Policy and Review; Meeting of the NTP Board of Scientific Counselors Technical Reports Review Subcommittee

AGENCY: National Institute of Environmental Health Sciences (NIEHS), National Institutes of Health (NIH).

ACTION: Meeting announcement and request for comments.

SUMMARY: Pursuant to Public Law 92-463, notice is hereby given of a meeting of the NTP Board of Scientific Counselors (BSC) Technical Reports Review Subcommittee (TRR Subcommittee). The primary agenda topic is the peer review of the findings and conclusions presented in six draft NTP Technical Reports of rodent toxicology and carcinogenicity studies in conventional rats and mice. The TRR Subcommittee meeting is open to the public with time scheduled for oral public comment. The NTP also invites written comments on the draft reports (see “Request for Comments” below). The TRR Subcommittee deliberations on the draft reports will be reported to the NTP BSC at a future meeting.

DATES: The TRR Subcommittee meeting will be held on November 19, 2009. All individuals who plan to attend are encouraged to register online by November 12, 2009, at the NTP Web site (http://ntp.niehs.nih.gov/go/15833). The draft reports should be posted by COB October 13, 2009. Written comments on the draft reports should be received by November 5, 2009. Persons needing interpreting services in order to attend should contact 301-402-8180 (voice) or 301-435-1908 (TTY). For other accommodations while on the NIEHS campus, contact 919-541-2475 or e-mail niehsoeeo@niehs.nih.gov. Requests should be made at least 7 days in advance of the event.

ADDRESSES: The TRR Subcommittee meeting will be held in the Rodbell Auditorium, Rall Building at the NIEHS, 111 T. W. Alexander Drive, Research Triangle Park, NC 27709. Public comments and any other correspondence should be submitted to Dr. Barbara Shane, Executive Secretary for the NTP BSC (NTP Office of Liaison, Policy and Review, NIEHS, P.O. Box 12233, MD K2-03, Research Triangle Park, NC 27709; courier address: Room 2138, 530 Davis Drive, Morrisville, NC 27560; telephone: 919-541-4253, fax: 919-541-0295; or e-mail: shane@niehs.nih.gov).

SUPPLEMENTARY INFORMATION:

Background

The primary agenda topic is the peer review of the findings and conclusions of six draft NTP Technical Reports of rodent toxicology and carcinogenicity studies (see “PRELIMINARY AGENDA” below).

Attendance and Registration

The meeting is scheduled for November 19, 2009, from 8:30 a.m. to adjournment and is open to the public with attendance limited only by the space available. Individuals who plan to attend are encouraged to register online at the NTP Web site (http://ntp.niehs.nih.gov/go/15833) by November 12, 2009, to facilitate access to the NIEHS campus. A photo ID is required to access the NIEHS campus. The NTP is making plans to videocast the meeting through the Internet at http://www.niehs.nih.gov/news/video/live.

Availability of Meeting Materials

A copy of the preliminary agenda, committee roster, and any additional information, when available, will be posted on the NTP Web site (http://ntp.niehs.nih.gov/go/15833) or may be requested in hardcopy from the Executive Secretary (see ADDRESSES above). The draft reports should be posted on the NTP Web site by October 13, 2009. Following the meeting, summary minutes will be prepared and made available on the NTP Web site.

Request for Comments

The NTP invites written comments on the draft reports, which should be received by November 5, 2009, to enable review by the TRR Subcommittee and NTP staff prior to the meeting. Persons submitting written comments should include their name, affiliation, mailing address, phone, e-mail, and sponsoring organization (if any) with the document. Written comments received in response to this notice will be posted on the NTP Web site, and the submitter will be identified by name, affiliation, and/or sponsoring organization.

Public input at this meeting is also invited and time is set aside for the presentation of oral comments on the draft reports. Each organization is allowed one time slot per draft report. At least 7 minutes will be allotted to each speaker, and if time permits, may be extended to 10 minutes at the discretion of the chair. Persons wishing to make an oral presentation are asked to notify Dr. Barbara Shane via online registration at http://ntp.niehs.nih.gov/go/15833, phone, or e-mail (see ADDRESSES above) by November 12, 2009, and if possible, to send a copy of the statement or talking points at that time. Written statements can supplement and may expand the oral presentation. Registration for oral comments will also be available at the meeting, although time allowed for presentation by on-site registrants may be less than that for pre-registered speakers and will be determined by the number of persons who register on-site.

Background Information on the NTP Board of Scientific Counselors

The BSC is a technical advisory body comprised of scientists from the public and private sectors who provide primary scientific oversight to the NTP. Specifically, the BSC advises the NTP on matters of scientific program content, both present and future, and conducts periodic review of the program for the purposes of determining and advising on the scientific merit of its activities and their overall scientific quality. The TRR Subcommittee is a standing subcommittee of the BSC. BSC members are selected from recognized authorities knowledgeable in fields such as toxicology, pharmacology, pathology, biochemistry, epidemiology, risk assessment, carcinogenesis, mutagenesis, molecular biology, behavioral toxicology and neurotoxicology, immunotoxicology, reproductive toxicology or teratology, and biostatistics. Its members are invited to serve overlapping terms of up to four years. BSC and TRR Subcommittee meetings are held annually or biannually.

Dated: September 23, 2009.
John R. Bucher,
Associate Director, National Toxicology Program.

Preliminary Agenda

NTP Board of Scientific Counselors

Technical Reports Review Subcommittee Meeting

November 19, 2009

National Institute of Environmental Health Sciences

Rodbell Auditorium, Rall Building

111 T.W. Alexander Drive, Research Triangle Park, NC

Technical Reports (TR) Scheduled for Review

• TR 564 1-Bromopropane (CASRN 106-94-5)

○ Previously used as an intermediate in the production of pesticides, quaternary ammonium compounds, flavors, and fragrances. Introduced as a less toxic replacement for methylene chloride in emissive applications such as vapor and immersion degreasing operations and critical cleaning of electronics and metals. Used as a relatively nonflammable, nontoxic, fast-drying, and inexpensive solvent for adhesive resins, and as a replacement for ozone-depleting refrigerants.

• TR 565 Milk Thistle Extract (CASRN 84604-20-6)

○ Milk thistle extracts are used as herbal medicines to treat a variety of diseases (e.g., liver disease) and as a food additive.

• TR 566 Diethylamine (CASRN 109-89-7)

○ Used mainly as a chemical intermediate to produce the corrosion inhibitor, N,N-diethylethanolamine, and to lesser extent to produce pesticides, insect repellants, pharmaceuticals, and rubber processing chemicals.

• TR 567 Ginseng (CASRN 50647-08-0)

○ Ginseng is a perennial aromatic herb widely used in herbal remedies for enhancing stamina and endurance for mental and physical performance.

• TR 563 Pulegone (CASRN 89-82-7)

○ Several essential oils that contain pulegone are used for flavoring foods, drinks, and dental products, as fragrance agents, and in herbal medicines.

• TR 536 Bis(2-chloroethoxy) methane (CASRN 111-91-1)

○ Used as a solvent and as the starting agent in the production of fungicides and polysulfide polymers.

[FR Doc. E9-23781 Filed 10-1-09; 8:45 am]

BILLING CODE 4140-01-P